OFFICE OF PERSONNEL MANAGEMENT

January 2010 Pay Adjustments

AGENCY: U.S. Office of Personnel Management.

ACTION: Notice.

SUMMARY: The President adjusted the rates of basic pay and locality payments for certain categories of Federal employees effective in January 2010. This notice documents those pay adjustments for the public record.

FOR FURTHER INFORMATION CONTACT: Lisa Dismond, Pay and Leave, Employee Services, U.S. Office of Personnel Management; (202) 606-2858; FAX (202) 606-0824; or email to pay-performance-policy@opm.gov.

SUPPLEMENTARY INFORMATION: On December 23, 2009, the President signed Executive Order 13525 (74 FR 69231), which implemented the January 2010 pay adjustments. The President made these adjustments consistent with Public Law 111-117, December 16, 2009, which authorized an overall average pay increase of 2.0 percent for the “statutory pay systems,” including the General Schedule (GS).

Schedule 1 of Executive Order 13525 provides the rates for the 2010 General Schedule and reflects a 1.5 percent across-the-board increase. Executive Order 13525 also includes the percentage amounts of the 2010 locality payments. (See Section 5 and Schedule 9 of Executive Order 13525.)

The publication of this notice satisfies the requirement in section 5(b) of Executive Order 13525 that the U.S. Office of Personnel Management (OPM) publish appropriate notice of the 2010 locality payments in the Federal Register.

GS employees receive locality payments under 5 U.S.C. 5304. Locality payments apply in the United States (as defined in 5 U.S.C. 5921(4)) and its territories and possessions. In 2010, locality payments ranging from 4.72 percent to 35.15 percent apply to GS employees in the 32 locality pay areas, Alaska, Hawaii, and the territories and possessions.

The 2010 locality pay percentages, which replaced the 2009 locality pay percentages, became effective on the first day of the first pay period beginning on or after January 1, 2010 (January 3, 2010). An employee's locality rate of pay is computed by increasing his or her scheduled annual rate of pay (as defined in 5 CFR 531.602) by the applicable locality pay percentage. (See 5 CFR 531.604 and 531.609.) (The 2010 locality pay area definitions can be found at http://www.opm.gov/oca/10tables/locdef.asp. The Non-Foreign Area Retirement Equity Assurance Act of 2009 contained in subtitle B (sections 1911-1919) of title XIX of the National Defense Authorization Act for Fiscal Year 2010 (Pub. L. 111-84, October 28, 2009) extends coverage of the locality pay program to employees in Alaska, Hawaii, and the other nonforeign areas beginning in 2010. For 2010, the statute provides that employees in each of these areas receive one-third of the locality pay percentage approved for the Rest of United States locality pay area.)

Executive Order 13525 establishes the new Executive Schedule, which incorporates a 1.5 percent increase required under 5 U.S.C. 5318 (rounded to the nearest $100). By law, Executive Schedule officials are not authorized to receive locality payments.

Executive Order 13525 establishes the range of rates of basic pay for senior executives in the Senior Executive Service (SES), as established pursuant to 5 U.S.C. 5382. The minimum rate of basic pay for the SES may not be less than the minimum rate payable under 5 U.S.C. 5376 for senior-level positions ($119,554 in 2010). The maximum rate of the SES rate range is level II of the Executive Schedule ($179,700 in 2010) for SES members covered by a certified SES performance appraisal system and level III of the Executive Schedule ($165,300 in 2010) for SES members covered by an SES performance appraisal system that has not been certified.

The minimum rate of basic pay for the senior-level (SL) and scientific and professional (ST) rate range was increased by 1.5 percent ($119,554 in 2010), which is the amount of the across-the-board GS increase. The applicable maximum rate of the SL/ST rate range is level II of the Executive Schedule ($179,700 in 2010) for SL or ST employees covered by a certified SL/ST performance appraisal system and level III of the Executive Schedule ($165,300 in 2010) for SL or ST employees covered by an SL/ST performance appraisal system that has not been certified. Agencies with certified performance appraisal systems in 2010 for SES members and employees in SL and ST positions also must apply a higher aggregate limitation on pay—up to the Vice President's salary ($230,700 in 2010).

By law, SES members and employees in SL and ST positions are not authorized to receive locality payments.

Note: An exception applies to SES, SL, and ST employees stationed in a nonforeign area on January 2, 2010, which is explained in an OPM memorandum, CPM 2009-27. (See http://www.opm.gov/oca/compmemo/index.asp.)

The Executive order adjusted the rates of basic pay for administrative law judges (ALJs) by 1.5 percent, rounded to the nearest $100. The maximum rate of basic pay for ALJs is set by law at the rate for level IV of the Executive Schedule, which is now $155,500. The rate of basic pay for AL-2 is $151,800. The rates of basic pay for AL-3/A through 3/F range from $103,900 to $143,700. (See 5 U.S.C. 5372.)

The rates of basic pay for members of Contract Appeals Boards are calculated as a percentage of the rate for level IV of the Executive Schedule. (See 5 U.S.C. 5372a.) Therefore, these rates of basic pay were increased by approximately 1.5 percent.

On October 23, 2009, the President's Pay Agent extended the 2010 locality-based comparability payments to certain categories of non-GS employees. The Governmentwide categories include ALJs and Contract Appeals Board members. The maximum locality rate of pay for these employees is the rate for level III of the Executive Schedule ($165,300 in 2010).

On December 23, 2009, OPM issued a memorandum (CPM 2009-23) on the January 2010 pay adjustments. (See http://www.opm.gov/oca/compmemo/index.asp.) The memorandum transmitted Executive Order 13525 and provided the 2010 salary tables, locality pay areas and percentages, and information on general pay administration matters and other related information. The “2010 Salary Tables” posted on OPM's Web site at: http://www.opm.gov/oca/10tables/index.asp are the official rates of pay for affected employees and are hereby incorporated as part of this notice.

U.S. Office of Personnel Management.
John Berry,
Director.

[FR Doc. 2010-1714 Filed 1-27-10; 8:45 am]

BILLING CODE 6325-39-P